DEPARTMENT OF LABOR

Employment and Training Administration

Notice of Determinations Regarding Eligibility to Apply for Worker Adjustment Assistance and NAFTA Transitional Adjustment Assistance

In accordance with Section 223 of the Trade Act of 1974, as amended, the Department of Labor herein presents summaries of determinations regarding eligibility to apply for trade adjustment assistance for workers (TA-W) issued during the period of June, 2001.

In order for an affirmative determination to be made and a certification of eligibility to apply for worker adjustment assistance to be issued, each of the group eligibility requirements of Section 222 of the Act must be met.

(1) That a significant number or proportion of the workers in the workers' firm, or an appropriate subdivision thereof, have become totally or partially separated.

(2) That sales or production, or both, of the firm or subdivision have decreased absolutely, and

(3) That increases of imports of articles like or directly competitive with articles produced by the firm or appropriate subdivision have contributed importantly to the separations, or threat thereof, and to the absolute decline in sales or production.

Negative Determinations for Worker Adjustment Assistance

In each of the following cases the investigation revealed that criterion (3) has not been met. A survey of customers indicated that increased imports did not contribute importantly to worker separations at the firm.

TA-W-38,502; Republic Technologies International, Baltimore, MD.

TA-W-39,068; Elizabeth Webbing, Inc., Central Falls, RI.

TA-W-39,348; A and A Logging, Inc., Mt. Hood, OR.

TA-W-39,121; Titan Tires of Natchez, Natchez, MS.

In the following cases, the investigation revealed that the criteria for eligibility have not been met for the reasons specified.

Increased imports did not contribute importantly to worker separations at the firm.

TA-W-39,045; Longview Aluminum LLC, Longview, WA.

TA-W-38,462; Pangborn Corp., Hagerstown, MD.

TA-W-39,315; The Boeing Co., Ridley, PA.

TA-W-38,692; Isaacson and Kater Button Co., Cleveland, OH.

TA-W-38,973; Robinson Fiddler's Green Manufacturing Co., Inc., Springville, NY.

TA-W-38,753; Amphenol Corp., Amphenol Aerspace Operation, Sidney, NY.

The investigation revealed that criteria (2) has not been met. Sales or production did not decline during the relevant period as required for

TA-W-39,294; Newmont Mining Corp., Carlin, NV.

TA-W-39,096; GMW Logging, Inc., Central Point, OR.

Affirmative Determinations for Worker Adjustment Assistance

The following certifications have been issued; the date following the company name and location of each determination references the impact date for all workers of such determination.

TA-W-39,078; Agilent Technologies, Inc., Electronic Products and Solutions Group, New Jersey Order Fulfillment, Including Leased Workers of Adecco, Rockaway, NJ; April 5, 2000.

TA-W-38,825; Thermal Corp., Selmer, TN: 2/21/2000.

TA-W-39,167; Maurice Silvera, Inc., Lumberton, NC: April 25, 2000.

TA-W-39,173; DJ Summers, New York, NY: April 23, 2000.

TA-W-39,393; UCAR Carbon Co., Inc., Columbia, TN: February 4, 2001.

TA-W-39,087; John Roberts, Inc., New York, NY: April 3, 2000.

TA-W-39,182 & A; The JPM Co., Lewisburg, PA and Beaver Springs, PA: April 12, 2000.

TA-W-38,963 & A; Ridgeview, Inc., Newton, NC and Tri-Star Hosiery Mills, Inc., Mebane, NC: March 21, 2000.

TA-W-39,041; Rawlings Sporting Goods Co., Inc., Ava, MO: April 2, 2000.

TA-W-39,228; Emerson Power Transmission, Bearing Div., Valparaiso, IN: April 26, 2000.

TA-W-39,286 & A, B; M. Fine and Sons Manufacturing Co., Inc., Middlesboro, KY, Loretto, TN and Greenhill, AL: May 3, 2000.

TA-W-39,339 & A, B; M. Fine and Sons Manufacturing Co., Inc., New York, NY, Louisville, KY and Dalton, GA: May 3, 2000.

TA-W-39,412 & A; M. Fine and Sons Manufacturing Co., Inc., New Albany, IN and Jeffersonville, IN: May 3, 2000.

TA-W-38,742; Munro and Co., Inc., Monett Footwear, Monett, MO: February 14, 2000.

TA-W-39,288; Heartland Wheat Growers LP, Russell, KS: May 4, 2000.

Also, pursuant to Title V of the North American Free Trade Agreement Implementation Act (P.L. 103-182) concerning transitional adjustment assistance hereinafter called (NAFTA-TAA) and in accordance with Section 250(a), Subchapter D, Chapter 2, Title II, of the Trade Act as amended, the Department of Labor presents summaries of determinations regarding eligibility to apply for NAFTA-TAA issued during the month of June, 2001.

In order for an affirmative determination to be made and a certification of eligibility to apply for NAFTA-TAA the following group eligibility requirements of Section 250 of the Trade Act must be met:

(1) That a significant number or proportion of the workers in the workers' firm, or an appropriate subdivision thereof, (including workers in any agricultural firm or appropriate subdivision thereof) have become totally or partially separated from employment and either—

(2) that sales or production, or both, of such firm or subdivision have decreased absolutely,

(3) that imports from Mexico or Canada of articles like or directly competitive with articles produced by such firm or subdivision have increased, and that the increases imports contributed importantly to such workers' separations or threat of separation and to the decline in sales or production of such firm or subdivision; or

(4) that there has been a shift in production by such workers' firm or subdivision to Mexico or Canada of articles like or directly competitive with articles which are produced by the firm or subdivision.

Negative Determinations NAFTA-TAA

In each of the following cases the investigation revealed that criteria (3) and (4) were not met. Imports from Canada or Mexico did not contribute importantly to workers' separations. There was no shift in production from the subject firm to Canada or Mexico during the relevant period.

NAFTA-TAA-04816; Lady Hope Dress, Kulpmont, PA.

NAFTA-TAA-04614; Sandhills Printing and Finishing, Inc., Sanford, NC.

NAFTA-TAA-04583; Munro and Co., Inc., Monett Footwear, Monett, MO.

NAFTA-TAA-04812; Cemex Kosmos Cement Co., Pittsburgh Plant, Pittsburgh, PA.

NAFTA-TAA-04976; Eaton Corp., Heavy Duty Transmission Div., Shenandoah, IA.

NAFTA-TAA-04397; Ralph Daniel Stearns Family Farm, Siskiyou, CA.

NAFTA-TAA-04590; Thermal Corp., Selmer, TN.

NAFTA-TAA-04551; Westpoint Stevens, Inc., Rosemary Plants, Roanoke Rapids, NC.

NAFTA-TAA-04849; Thomas and Betts, LRC, Horseheads, NY.

NAFTA-TAA-04570; Amphenol Corp., Amphenol Aerospace Operations, Sidney, NY.

The investigation revealed that the criteria for eligibility have not been met for the reasons specified.

The workers firm does not produce an article as required for certification under Section 222 of the Trade Act of 1974.

NAFTA-TAA-04957; Nortel Networks, Simi Valley, CA:

Affirmative Determinations NAFTA-TAA

NAFTA-TAA-04377; Editorial America, Virginia Gardens, FL: November 28, 1999.

NAFTA-TAA-04786; Rubber Urethanes, Inc., Gainesville, TX: April 6, 2000.

NAFTA-TAA-04865; Portable Energy Productions, Inc., Scotts Valley, CA: April 30, 2000.

NAFTA-TAA-04944; Santtony Wear, Knitting Department, Rockingham, NC: May 29, 2000.

NAFTA-TAA-04811; Emerson Power Transmission, Bearing Div., Valparaiso, IN: April 20, 2000.

NAFTA-TAA-04813; Tycom Corp., Owego, NY: April 5, 2000.

NAFTA-TAA-04950; UCAR Carbon Company, Inc., Columbia, TN: May 15, 2000.

NAFTA-TAA-04968; Thomson Multimedia, Inc., ATO Div., Dunmore, PA: May 31, 2000.

NAFTA-TAA-04556; Equistar Chemical LP, Port Arthur, TX: June 11, 2001.

NAFTA-TAA-04845 & A, B, C, D, E, F and G; M. Fine and Sons Manufacturing Co., Inc., Middlesboro, KY, Loretta, TN, Dalton, GA, New Albany, IN, Greenhill, AL, Jeffersonville, IN, Louisville, KY and New York, NY: May 2, 2000.

NAFTA-TAA-04703 & A; Lebanon Apparel Corp., Lebanon, VA and Three Creek Apparel, Castle Wood, VA: March 28, 2000.

NAFTA-TAA-04901; Carolina Mills, Inc., Plant #5, Lincolnton, NC: May 10, 2000.

NAFTA-TAA-04695 & A; Ridgeview, Inc., Leisure Sock Div., Newton, NC and Tri-Star Hosiery Mills, Inc., Mebane, NC: March 21, 2000.

NAFTA-TAA-04821 & A; Nokia, Inc., Nokia Mobile Phones, Alliance Gateway and Temporary Workers of Remedy Intelligent Staffing, Fort Worth, TX and Nokia, Inc. Nokia Mobile Phones, Trinity Boulevard and Temporary Workers of Remedy Intelligent Staffing, Fort Worth, TX: April 21, 2000.

I hereby certify that the aforementioned determinations were issued during the month of June, 2001. Copies of these determinations are available for inspection in Room C-5311, U.S. Department of Labor, 200 Constitution Avenue, N.W., Washington, D.C. 20210 during normal business hours or will be mailed to persons who wrote to the above address.

Dated: June 29, 2001.
Curtis K. Kooser,
Acting Director, Division of Trade Adjustment Assistance.

[FR Doc. 01-17360 Filed 7-10-01; 8:45 am]

BILLING CODE 4510-30-M